FEDERAL MARITIME COMMISSION

Ocean Transportation Intermediary License Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants:

Carib Cargo, Inc., 8012 NW., 29th Street, Miami, FL 33122, Officer: Armando Peralta, President/Director (Qualifying Individual)

North Star Express, Inc., 2252 Beverly Blvd., Ste. 204, Los Angeles, CA 90057, Officers: Leonardo B. Lucena, Marketing Director (Qualifying Individual), Eleuterio Gagar, President

Vision Intermodal, Inc., 16020 Van Ness Avenue, #16, Torrance, CA 90504

Officers: In Su Choi, C.E.O./Secretary (Qualifying Individual)

Nobel Cargo Systems, Inc., 3571 N.W. 82nd Avenue, Miami, FL 33122, Officers: Ivo Vieira Neto, President (Qualifying Individual), Claudinei Piccoli, Vice President

Dated: October 12, 2001.
Bryant L. VanBrakle,
Secretary.

[FR Doc. 01-26143 Filed 10-16-01; 8:45 am]

BILLING CODE 6730-01-P